DEPARTMENT OF TRANSPORTATION

National Highway Traffic Safety Administration

[Docket No. NHTSA 2002-13743; Notice 2]

Continental Tire North America Inc., Grant of Application for Decision of Inconsequential Noncompliance

Continental Tire North America Inc., (Continental) has determined that a total of 159 P265/70R16 AmeriTrac SUV Radial Passenger Tires and 7,131 P265/ 70R16 ContiTrac SUV Radial Tires do not meet the labeling requirements mandated by Federal Motor Vehicle Safety Standard (FMVSS) No. 109, “New Pneumatic Tires.” The noncompliant tires were produced during the periods March 11-24, 2001, and May 14, 2000-March 24, 2001, respectively. Pursuant to 49 U.S.C. 30118(d) and 30120(h), Continental has petitioned for a determination that this noncompliance is inconsequential to motor vehicle safety and has filed an appropriate report pursuant to 49 CFR part 573, “Defect and Noncompliance Reports.”

Notice of receipt of the application was published, with a 30-day comment period, on November 15, 2002, in the Federal Register (67 FR 69300). NHTSA received no comments.

The petitioner argued as follows: FMVSS No. 109 (S4.3.4(b)) requires both the maximum load in kilograms and pounds be molded on the tire's sidewall. The rated maximum kilogram load was incorrectly marked 1190 kg rather than 1090 kg. The rated maximum load in pounds was marked correctly. These tires are primarily sold in the domestic replacement market, where the load in pounds would be the predominant consumer unit of measurement. Continental stated that test results confirm that the subject tires meet all other test requirements of FMVSS No. 109, support the petition of an inconsequential stamping error, which does not affect performance, and is not safety related.

The agency believes the true measure of inconsequentiality with respect to the noncompliance with FMVSS No. 109, paragraph (S4.3.4(b)), is whether a consumer and/or retailer who relied on the incorrect information could experience a safety problem. In the case of this noncompliance, the maximum load value is marked correctly in English units. However, while the corresponding load value is correctly marked in English units, it is overstated in Metric units. The agency has conducted a series of focus groups, as required by the TREAD Act, to examine consumer perceptions and understanding of tire labeling. Few of the focus group participants had knowledge of tire labeling beyond the tire brand name, tire size, and tire pressure.

Since FMVSS No. 109 applies to tires sold in the U.S., and since consumers in the U.S. overwhelmingly rely on units of English measure for loading information, the safety issue associated with overloading tires as a result of this noncompliance is very small.

In consideration of the foregoing, NHTSA has decided that the applicant has met its burden of persuasion that the noncompliance described is inconsequential to safety. Accordingly, Continental's application is hereby granted and the applicant is exempted from providing the notification of the noncompliance as required by 49 U.S.C. 30118, and from remedying the noncompliance, as required by as required by 49 U.S.C. 30120.

(49 U.S.C. 30118, 30120; delegations of authority at 49 CFR 1.50 and 501.8)
Issued on: March 17, 2005.
Stephen R. Kratzke,
Associate Administrator for Rulemaking.

[FR Doc. 05-5650 Filed 3-22-05; 8:45 am]

BILLING CODE 4910-59-P